DEPARTMENT OF TRANSPORTATION

Federal Aviation Administration

14 CFR Part 97

[Docket No. 30214; Amdt. No. 2021]

Standard Instrument Approach Procedures; Miscellaneous Amendments

AGENCY: Federal Aviation Administration (FAA), DOT.

ACTION: Final rule.

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The National Flight Procedures Office (NFPO) at the Mike Monroney Aeronautical Center in Oklahoma City, OK, which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAP's, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR). The applicable FAA Form is identified as FAA Form 8260-3. Materials incorporated by reference are available for examination or purchase as stated above.

The large number of SIAP's, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standard for Terminal Instrument Procedures (TERPS). In developing these SIAPs, the TERPS criteria were applied to the conditions existing or anticipated at the affected airports.

The FAA has determined through extensive analysis that current SIAP's intended for use by Area Navigation (RNAV) equipped aircraft can be flown by aircraft utilizing various types of navigational equipment. The techniques used to code these SIAP's into the equipment data base impacts the usability of the procedure when activated. This amendment provides for the revision of the name/title of existing RNAV procedures to ensure coding techniques make the procedure fully available to the user. In consideration of the above, those SIAP's currently designated as “RNAV” will be redesignated as “RNAV (GPS)” without otherwise reviewing or modifying the SIAP's.

Because of the close and immediate relationship between these SIAP's and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on November 9, 2000.
L. Nicholas Lacey,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 is revised to read:

Authority: 49 U.S.C. 106(g), 40103, 40106, 40113-40114, 40120, 44502, 44514, 44701, 44719, 44721-44722.

§§ 9723, 97.27, 97.33, 97.35 [Amended]

2. Amend 97.23, 97.27, 97.33 and 97.35, as appropriate, by adding, revising, or removing the following SIAP's, effective at 0901 UTC on the dates specified:

* * * Effective January 25, 2001

Adak Island, AK, Adak NAF, RNAV RWY 23, Orig, CANCELLED

Adak Island, AK, Adak NAF, RNAV (GPS) RWY 23, Orig

Ambler, AK, Ambler, RNAV RWY 36, Orig, CANCELLED

Ambler, AK, Ambler, RNAV (GPS) RWY 36, Orig

Gulkana, AK, Gulkana, RNAV RWY 14, Orig, CANCELLED

Gulkana, AK, Gulkana, RNAV (GPS) RWY 14, Orig

Gulkana, AK, Gulkana, RNAV RWY 32, Orig, CANCELLED

Gulkana, AK, Gulkana, RNAV (GPS) RWY 32, Orig

Albertville, AL, The Albertville Muni-Thomas J. Brumlik Field, RNAV RWY 5, Orig, CANCELLED

Albertville, AL, The Albertville Muni-Thomas J. Brumlik Field, RNAV (GPS) RWY 5, Orig

Albertville, AL, The Albertville Muni-Thomas J. Brumlik Field, RNAV RWY 23, Orig, CANCELLED

Albertville, AL, The Albertville Muni-Thomas J. Brumlik Field, RNAV (GPS) RWY 23, Orig

Decatur, AL, Pryor Field Regional, RNAV RWY 36, Orig, CANCELLED

Decatur, AL, Pryor Field Regional, RNAV (GPS) RWY 36, Orig

Gulf Shores, AL, Jack Edwards, RNAV RWY 9, Orig, CANCELLED

Gulf Shores, AL, Jack Edwards, RNAV (GPS) RWY 9, Orig

Prattville, AL, Autauga County, RNAV RWY 9, Orig, CANCELLED

Prattville, AL, Autauga County, RNAV (GPS) RWY 9, Orig

Glendale, AZ, Glendale Muni, RNAV RWY 19, Orig, CANCELLED

Glendale, AZ, Glendale Muni, RNAV (GPS) RWY 19, Orig

Phoenix, AZ, Phoenix Sky Harbor Intl, RNAV RWY 7L, Orig, CANCELLED

Phoenix, AZ, Phoenix Sky Harbor Intl, RNAV (GPS) RWY 7L, Orig

Phoenix, AZ, Phoenix Sky Harbor Intl, RNAV RWY 8, Orig, CANCELLED

Phoenix, AZ, Phoenix Sky Harbor Intl, RNAV (GPS) RWY 8, Orig

Phoenix, AZ, Phoenix Sky Harbor Intl, RNAV RWY 26, Orig, CANCELLED

Phoenix, AZ, Phoenix Sky Harbor Intl, RNAV (GPS) RWY 26, Orig

Phoenix, AZ, Phoenix Sky Harbor Intl, RNAV RWY 25R, Orig, CANCELLED

Phoenix, AZ, Phoenix Sky Harbor Intl, RNAV (GPS) RWY 25R, Orig

Phoenix, AZ, Williams Gateway, RNAV RWY 12C, Orig, CANCELLED

Phoenix, AZ, Williams Gateway, RNAV (GPS) RWY 12C, Orig

Phoenix, AZ, Williams Gateway, RNAV RWY 12R, Orig, CANCELLED

Phoenix, AZ, Williams Gateway, RNAV (GPS) RWY 12R, Orig

Phoenix, AZ, Williams Gateway, RNAV RWY 30L, Orig, CANCELLED

Phoenix, AZ, Williams Gateway, RNAV (GPS) RWY 30L, Orig

Georgetown, DE, Sussex County, RNAV RWY 4, Orig, CANCELLED

Georgetown, DE, Sussex County, RNAV (GPS) RWY 4, Orig

Georgetown, DE, Sussex County, RNAV RWY 22, Orig, CANCELLED

Georgetown, DE, Sussex County, RNAV (GPS) RWY 22, Orig

Apalachicola, FL, Apalachicola Muni, RNAV RWY 13, Orig, CANCELLED

Apalachicola, FL, Apalachicola Muni, RNAV (GPS) RWY 13, Orig

Apalachicola, FL, Apalachicola Muni, RNAV RWY 31, Orig, CANCELLED

Apalachicola, FL, Apalachicola Muni, RNAV (GPS) RWY 31, Orig

Clearwater, FL, Clearwater Air Park, RNAV RWY 16, Orig, CANCELLED

Clearwater, FL, Clearwater Air Park, RNAV (GPS) RWY 16, Orig

Destin, FL, Destin-Fort Walton Beach, RNAV RWY 14, Orig, CANCELLED

Destin, FL, Destin-Fort Walton Beach, RNAV (GPS) RWY 14, Orig

Destin, FL, Destin-Fort Walton Beach, RNAV RWY 32, Orig, CANCELLED

Destin, FL, Destin-Fort Walton Beach, RNAV (GPS) RWY 32, Orig

Jacksonville, FL, Jacksonville Intl, RNAV RWY 7, Orig, CANCELLED

Jacksonville, FL, Jacksonville Intl, RNAV (GPS) RWY 7, Orig

Jacksonville, FL, Jacksonville Intl, RNAV RWY 13, Orig, CANCELLED

Jacksonville, FL, Jacksonville Intl, RNAV (GPS) RWY 13, Orig

Jacksonville, FL, Jacksonville Intl, RNAV RWY 25, Orig, CANCELLED

Jacksonville, FL, Jacksonville Intl, RNAV (GPS) RWY 25, Orig

Lake City, FL, Lake City Muni, RNAV RWY 10, Orig, CANCELLED

Lake City, FL, Lake City Muni, RNAV (GPS) RWY 10, Orig

Lake City, FL, Lake City Muni, RNAV RWY 28, Orig, CANCELLED

Lake City, FL, Lake City Muni, RNAV (GPS) RWY 28, Orig

Merritt Island, FL, Merritt Island, RNAV RWY 11, Orig, CANCELLED

Merritt Island, FL, Merritt Island, RNAV (GPS) RWY 11, Orig

Naples, FL, Naples Muni, RNAV RWY 5, Orig, CANCELLED

Naples, FL, Naples Muni, RNAV (GPS) RWY 5, Orig

Naples, FL, Naples Muni, RNAV RWY 23, Orig, CANCELLED

Naples, FL, Naples Muni, RNAV (GPS) RWY 23, Orig

Ocala, FL, Ocala Regional/Jim Taylor Field, RNAV RWY 18, Orig, CANCELLED

Ocala, FL, Ocala Regional/Jim Taylor Field, RNAV (GPS) RWY 18, Orig

Ocala, FL, Ocala Regional/Jim Taylor Field, RNAV RWY 36, Orig, CANCELLED

Ocala, FL, Ocala Regional/Jim Taylor Field, RNAV (GPS) RWY 36, Orig

Orlando, FL, Orlando Sanford, RNAV RWY 9L, Orig, CANCELLED

Orlando, FL, Orlando Sanford, RNAV (GPS) RWY 9L, Orig

Orlando, FL, Orlando Sanford, RNAV RWY 27R, Orig, CANCELLED

Orlando, FL, Orlando Sanford, RNAV (GPS) RWY 27R, Orig

Tampa, FL, Tampa Intl, RNAV RWY 9, Orig, CANCELLED

Tampa, FL, Tampa Intl, RNAV (GPS) RWY 9, Orig

Tampa, FL, Tampa Intl, RNAV RWY 27, Orig, CANCELLED

Tampa, FL, Tampa Intl, RNAV (GPS) RWY 27, Orig

Tampa, FL, Tampa Intl, RNAV RWY 36R, Orig, CANCELLED

Tampa, FL, Tampa Intl, RNAV (GPS) RWY 36R, Orig

Vero Beach, FL, Vero Beach Muni, RNAV RWY 11R, Orig, CANCELLED

Vero Beach, FL, Vero Beach Muni, RNAV (GPS) RWY 11R, Orig

Vero Beach, FL, Vero Beach Muni, RNAV RWY 29L, Orig, CANCELLED

Vero Beach, FL, Vero Beach Muni, RNAV (GPS) RWY 29L, Orig

Blakely, GA, Early County, RNAV RWY 5, Orig, CANCELLED

Blakely, GA, Early County, RNAV (GPS) RWY 5, Orig

Blakely, GA, Early County, RNAV RWY 23, Orig, CANCELLED

Blakely, GA, Early County, RNAV (GPS) RWY 23, Orig

Marietta, GA, Cobb County-McCollum Field, RNAV RWY 9, Orig, CANCELLED

Marietta, GA, Cobb County-McCollum Field, RNAV (GPS) RWY 9, Orig

Marietta, GA, Cobb County-McCollum Field, RNAV RWY 27, Orig, CANCELLED

Marietta, GA, Cobb County-McCollum Field, RNAV (GPS) RWY 27, Orig

Ames, IA, Ames Muni, RNAV RWY 1, Orig, CANCELLED

Ames, IA, Ames Muni, RNAV (GPS) RWY 1, Orig

Burlington, IA, Burlington Regional, RNAV RWY 36, Orig, CANCELLED

Burlington, IA, Burlington Regional, RNAV (GPS) RWY 36, Orig

Estherville, IA, Estherville Muni, RNAV RWY 16, Orig, CANCELLED

Estherville, IA, Estherville Muni, RNAV (GPS) RWY 16, Orig

Estherville, IA, Estherville Muni, RNAV RWY 34, Orig, CANCELLED

Estherville, IA, Estherville Muni, RNAV (GPS) RWY 34, Orig

Hampton, IA, Hampton Muni, RNAV RWY 17, Orig, CANCELLED

Hampton, IA, Hampton Muni, RNAV (GPS) RWY 17, Orig

Hampton, IA, Hampton Muni, RNAV RWY 35, Orig, CANCELLED

Hampton, IA, Hampton Muni, RNAV (GPS) RWY 35, Orig

Mason City, IA, Mason City Muni, RNAV RWY 30, Orig, CANCELLED

Mason City, IA, Mason City Muni, RNAV (GPS) RWY 30, Orig

Hailey, ID, Friedman Memorial, RNAV RWY 31, Orig, CANCELLED

Hailey, ID, Friedman Memorial, RNAV (GPS) RWY 31, Orig

Belleville, IL, Scott AFB/Midamerica, RNAV RWY 14R, Orig, CANCELLED

Belleville, IL, Scott AFB/Midamerica, RNAV (GPS) RWY 14R, Orig

Belleville, IL, Scott AFB/Midamerica, RNAV RWY 32L, Orig. CANCELLED

Belleville, IL, Scott AFB/Midamerica, RNAV (GPS) RWY 32L, Orig

Chicago, IL, Chicago O'Hare Intl, RNAV RWY 9r, Orig, CANCELLED

Chicago, IL, Chicago O'Hare Intl, RNAV (GPS) RWY 9R, Orig

Chicago, IL, Chicago O'Hare Intl, RNAV RWY 14L, Orig, CANCELLED

Chicago, IL, Chicago O'Hare Intl, RNAV (GPS) RWY 14L, Orig

Chicago, IL, Chicago O'Hare Intl, RNAV RWY 14R, Orig, CANCELLED

Chicago, IL, Chicago O'Hare Intl, RNAV (GPS) RWY 14R, Orig

Chicago/Aurora, IL, Aurora Muni, RNAV RWY 15, Orig, CANCELLED

Chicago/Aurora, IL, Aurora Muni, RNAV (GPS) RWY 15, Orig

Chicago/Aurora, IL, Aurora Muni, RNAV RWY 33, Orig, CANCELLED

Chicago/Aurora, IL, Aurora Muni, RNAV (GPS) RWY 33, Orig

Chicago/Lake In The Hills, IL, Lake In The Hills, RNAV RWY 8, Orig, CANCELLED

Chicago/Lake In The Hills, IL, Lake In The Hills, RNAV (GPS) RWY 8, Orig

Chicago/Lake In The Hills, IL, Lake In The Hills, RNAV RWY 26, Orig, CANCELLED

Chicago/Lake In The Hills, IL, Lake In The Hills, RNAV (GPS) RWY 26, Orig

Grayslake, IL, Campbell, RNAV-B, Orig, CANCELLED

Grayslake, IL, Campbell, RNAV-B (GPS), Orig

Greenwood/Wonder Lake, IL, Galt Field, RNAV-B, Orig, CANCELLED

Greenwood/Wonder Lake, IL, Galt Field, RNAV-B (GPS), Orig

Lawrenceville, IL, Lawrenceville-Vincennes Intl, RNAV RWY 9, Orig, CANCELLED

Lawrenceville, IL, Lawrenceville-Vincennes Intl, RNAV (GPS) RWY 9, Orig

Lawrenceville, IL, Lawrenceville-Vincennes Intl, RNAV RWY 18, Orig, CANCELLED

Lawrenceville, IL, Lawrenceville-Vincennes Intl, RNAV (GPS) RWY 18, Orig

Lawrenceville, IL, Lawrenceville-Vincennes Intl, RNAV RWY 27, Orig, CANCELLED

Lawrenceville, IL, Lawrenceville-Vincennes Intl, RNAV (RPS) RWY 27, Orig

Lawrenceville, IL, Lawrenceville-Vincennes Intl, RNAV RWY 36, Orig, CANCELLED

Lawrenceville, IL, Lawrenceville-Vincennes Intl, RNAV (GPS) RWY 36, Orig

Connersville, IN, Mettel Field, RNAV RWY 18, Orig, CANCELLED

Connersville, IN, Mettel Field, RNAV (GPS) RWY 18, Orig

Connersville, IN, Mettel Field, RNAV RWY 36, Orig, CANCELLED

Connersville, IN, Mettel Field, RNAV (GPS) RWY 36, Orig

Lafayette, IN, Purdue University, RNAV RWY 10, Orig, CANCELLED

Lafayette, IN, Purdue University, RNAV (GPS) RWY 10, Orig

Lafayette, IN, Purdue University, RNAV RWY 28, Orig, CANCELLED

Lafayette, IN, Purdue University, RNAV (GPS) RWY 28, Orig

Winamac, IN, Arens Field RNAV RWY 9, Orig, CANCELLED

Winamac, IN, Arens Field RNAV (GPS) RWY 9, Orig

Winamac, IN, Arens Field RNAV RWY 27, Orig, CANCELLED

Winamac, IN, Arens Field RNAV (GPS) RWY 27, Orig

Hays, KS, Hays Regional, RNAV RWY 34, Orig, CANCELLED

Hays, KS, Hays Regional, RNAV (GPS) RWY 34, Orig

Olathe, KS, New Century Aircenter, RNAV RWY 17, Orig, CANCELLED

Olathe, KS, New Century Aircenter, RNAV (GPS) RWY 17, Orig

Olathe, KS, New Century Aircenter, RNAV RWY 35, Orig, CANCELLED

Olathe, KS, New Century Aircenter, RNAV (GPS) RWY 35, Orig

Georgetown, KY, Georgetown Scott County-Marshall Field, RNAV RWY 3, Orig, CANCELLED

Georgetown, KY, Georgetown Scott County-Marshall Field, RNAV (GPS) RWY 3, Orig

Georgetown, KY, Georgetown Scott County-Marshall Field, RNAV RWY 21, Orig, CANCELLED

Georgetown, KY, Georgetown Scott County-Marshall Field, RNAV (GPS) RWY 21, Orig

Pikeville, KY, Pike County-Hatcher Field, RNAV RWY 9, Orig, CANCELLED

Pikeville, KY, Pike County-Hatcher Field, RNAV (GPS) RWY 9, Orig

Pikeville, KY, Pike County-Hatcher Field, RNAV RWY 27, Orig, CANCELLED

Pikeville, KY, Pike County-Hatcher Field, RNAV (GPS) RWY 27, Orig

Alexandria, LA, Alexandria Intl, RNAV RWY 14, Orig, CANCELLED

Alexandria, LA, Alexandria Intl, RNAV (GPS) RWY 14, Orig

Tallulah/Vicksburg, LA, Vicksburg Tallulah Regional, RNAV RWY 18, Orig, CANCELLED

Tallulah/Vicksburg, LA, Vicksburg Tallulah Regional, RNAV (GPS) RWY 18, Orig

Tallulah/Vicksburg, LA, Vicksburg Tallulah Regional, RNAV RWY 36, Orig, CANCELLED

Tallulah/Vicksburg, LA, Vicksburg Tallulah Regional, RNAV (GPS) RWY 36, Orig

Boston, MA, General Edward Lawrence Logan Intl, RNAV RWY 4R, Orig, CANCELLED

Boston, MA, General Edward Lawrence Logan Intl, RNAV (GPS) RWY 4R, Orig

Hyannis, MA, Barnstable Muni-Boardman/Polando Field, RNAV RWY 24, Orig, CANCELLED

Hyannis, MA, Barnstable Muni-Boardman/Polando Field, RNAV (GPS) RWY 24, Orig

Baltimore, MD, Baltimore-Washington Intl, RNAV RWY 4, Orig, CANCELLED

Baltimore, MD, Baltimore-Washington Intl, RNAV (GPS) RWY 4, Orig

Baltimore, MD, Baltimore-Washington Intl, RNAV RWY 10, Orig, CANCELLED

Baltimore, MD, Baltimore-Washington Intl, RNAV (GPS) RWY 10, Orig

Baltimore, MD, Baltimore-Washington Intl, RNAV RWY 15L, Orig, CANCELLED

Baltimore, MD, Baltimore-Washington Intl, RNAV (GPS) RWY 15L, Orig

Baltimore, MD, Baltimore-Washington Intl, RNAV Y RWY 15R, Orig, CANCELLED

Baltimore, MD, Baltimore-Washington Intl, RNAV (GPS) Y RWY 15R, Orig

Baltimore, MD, Baltimore-Washington Intl, RNAV Z RWY 15R, Orig, CANCELLED

Baltimore, MD, Baltimore-Washington Intl, RNAV (GPS) Z RWY 15R, Orig

Baltimore, MD, Baltimore-Washington Intl, RNAV RWY 22, Orig, CANCELLED

Baltimore, MD, Baltimore-Washington Intl, RNAV (GPS) RWY 22, Orig

Baltimore, MD, Baltimore-Washington Intl, RNAV Y RWY 28, Orig, CANCELLED

Baltimore, MD, Baltimore-Washington Intl, RNAV (GPS) Y RWY 28, Orig

Baltimore, MD, Baltimore-Washington Intl, RNAV Z RWY 28, Orig, CANCELLED

Baltimore, MD, Baltimore-Washington Intl, RNAV (GPS) Z RWY 28, Orig

Baltimore, MD, Baltimore-Washington Intl, RNAV RWY 33L, Orig, CANCELLED

Baltimore, MD, Baltimore-Washington Intl, RNAV (GPS) RWY 33L, Orig

Baltimore, MD, Baltimore-Washington Intl, RNAV RWY 33R, Orig, CANCELLED

Baltimore, MD, Baltimore-Washington Intl, RNAV (GPS) RWY 33R, Orig

Baltimore, MD, Martin State, RNAV RWY 15, Orig, CANCELLED

Baltimore, MD, Martin State, RNAV (GPS) RWY 15, Orig

Baltimore, MD, Martin State, RNAV RWY 33, Orig, CANCELLED

Baltimore, MD, Martin State, RNAV (GPS) RWY 33, Orig

College Park, MD, College Park, RNAV RWY 15, Orig, CANCELLED

College Park, MD, College Park, RNAV (GPS) RWY 15, Orig

Cumberland, MD, Greater Cumberland Regional, RNAV RWY 5, Orig, CANCELLED

Cumberland, MD, Greater Cumberland Regional, RNAV (GPS) RWY 5, Orig

Gaithersburg, MD, Montgomery County Airpark, RNAV RWY 14, Orig, CANCELLED

Gaithersburg, MD, Montgomery County Airpark, RNAV (GPS) RWY 14, Orig

Ocean City, MD, Ocean City Muni, RNAV RWY 14, Orig, CANCELLED

Ocean City, MD, Ocean City Muni, RNAV (GPS) RWY 14, Orig

Salisbury, MD, Salisbury-Ocean City Wicomico Regional, RNAV RWY 5, Orig, CANCELLED

Salisbury, MD, Salisbury-Ocean City Wicomico Regional, RNAV (GPS) RWY 5, Orig

Salisbury, MD, Salisbury-Ocean City Wicomico Regional, RNAV RWY 14, Orig, CANCELLED

Salisbury, MD, Salisbury-Ocean City Wicomico Regional, RNAV (GPS) RWY 14, Orig

Salisbury, MD, Salisbury-Ocean City Wicomico Regional, RNAV RWY 23, Orig, CANCELLED

Salisbury, MD, Salisbury-Ocean City Wicomico Regional, RNAV (GPS) RWY 23, Orig

Salisbury, MD, Salisbury-Ocean City Wicomico Regional, RNAV RWY 32, Orig, CANCELLED

Salisbury, MD, Salisbury-Ocean City Wicomico Regional, RNAV (GPS) RWY 32, Orig

Stevensville, MD, Bay Bridge, RNAV RWY 11, Orig, CANCELLED

Stevensville, MD, Bay Bridge, RNAV (GPS) RWY 11, Orig

Stevensville, MD, Bay Bridge, RNAV RWY 29, Orig, CANCELLED

Stevensville, MD, Bay Bridge, RNAV (GPS) RWY 29, Orig

Westminster, MD, Carroll County Reg/Jack B. Poage Field, RNAV RWY 16, Orig, CANCELLED

Westminster, MD, Carroll County Reg/Jack B. Poage Field, RNAV (GPS) RWY 16, Orig

Westminster, MD, Carroll County Reg/Jack B. Poage Field, RNAV RWY 34, Orig, CANCELLED

Westminster, MD, Carroll County Reg/Jack B. Poage Field, RNAV (GPS) RWY 34, Orig

Westminster, MD, Clearview Airpark, RNAV RWY 14, Orig, CANCELLED

Westminster, MD, Clearview Airpark, RNAV (GPS) RWY 14, Orig

Frenchville, ME, Northern Aroostook Regional, RNAV RWY 14, Orig, CANCELLED

Frenchville, ME, Northern Aroostook Regional, RNAV (GPS) RWY 14, Orig

Frenchville, ME, Northern Aroostook Regional, RNAV RWY 32, Orig, CANCELLED

Frenchville, ME, Northern Aroostook Regional, RNAV (GPS) RWY 32, Orig

Princeton, ME, Princeton Muni, RNAV RWY 15, Orig, CANCELLED

Princeton, ME, Princeton Muni, RNAV (GPS) RWY 15, Orig

Coldwater, MI, Branch County Memorial, RNAV RWY 6, Orig, CANCELLED

Coldwater, MI, Branch County Memorial, RNAV (GPS) RWY 6, Orig

Detroit/Grosse Ile, MI, Grosse Ile Muni, RNAV RWY 22, Orig, CANCELLED

Detroit/Grosse Ile, MI, Grosse Ile Muni, RNAV (GPS) RWY 22, Orig

Frankfort, MI, Frankfort Dow Memorial Field, RNAV RWY 15, Orig, CANCELLED

Frankfort, MI, Frankfort Dow Memorial Field, RNAV (GPS) RWY 15, Orig

Frankfort, MI, Frankfort Dow Memorial Field, RNAV RWY 33, Orig, CANCELLED

Frankfort, MI, Frankfort Dow Memorial Field, RNAV (GPS) RWY 33, Orig

Harbor Springs, MI, Harbor Springs, RNAV RWY 10, Orig, CANCELLED

Harbor Springs, MI, Harbor Springs, RNAV (GPS) RWY 10, Orig

Harbor Springs, MI, Harbor Springs, RNAV RWY 28, Orig, CANCELLED

Harbor Springs, MI, Harbor Springs, RNAV (GPS) RWY 28, Orig

Ionia, MI, Ionia County, RNAV RWY 27, Orig, CANCELLED

Ionia, MI, Ionia County, RNAV (GPS) RWY 27, Orig

Marlette, MI, Marlette, RNAV RWY 9, Orig, CANCELLED

Marlette, MI, Marlette, RNAV (GPS) RWY 9, Orig

Marlette, MI, Marlette, RNAV RWY 27, Orig, CANCELLED

Marlette, MI, Marlette, RNAV (GPS) RWY 27, Orig

Marquette, MI, Sawyer Intl, RNAV RWY 19, Orig, CANCELLED

Marquette, MI, Sawyer Intl, RNAV (GPS) RWY 19, Orig

Saginaw, MI, Saginaw County H. W. Browne, RNAV RWY 27, Orig, CANCELLED

Saginaw, MI, Saginaw County H. W. Browne, RNAV (GPS) RWY 27, Orig

Three Rivers, MI, Three Rivers Muni Dr Haines, RNAV RWY 27, Orig, CANCELLED

Three Rivers, MI, Three Rivers Muni Dr Haines, RNAV (GPS) RWY 27, Orig

Troy, MI, Oakland/Troy, RNAV RWY 9, Orig, CANCELLED

Troy, MI, Oakland/Troy, RNAV (GPS) RWY 9, Orig

Bemidji, MN, Bemidji-Beltrami County, RNAV RWY 31, Orig, CANCELLED

Bemidji, MN, Bemidji-Beltrami County, RNAV (GPS) RWY 31, Orig

Minneapolis, MN, Flying Cloud, RNAV RWY 36, Orig, CANCELLED

Minneapolis, MN, Flying Cloud, RNAV RWY (GPS) 36, Orig

Olivia, MN, Olivia Regional, RNAV RWY 29, Orig, CANCELLED

Olivia, MN, Olivia Regional, RNAV (GPS) RWY 29, Orig

Owatonna, MN, Owatonna Degner Regional, RNAV RWY 12, Orig, CANCELLED

Owatonna, MN, Owatonna Degner Regional, RNAV (GPS) RWY 12, Orig

Pine River, MN, Pine River Regional, RNAV RWY 34, Orig, CANCELLED

Pine River, MN, Pine River Regional, RNAV (GPS) RWY 34, Orig

Cameron, MO, Cameron Memorial, RNAV RWY 17, Orig, CANCELLED

Cameron, MO, Cameron Memorial, RNAV (GPS) RWY 17, Orig

Cameron, MO, Cameron Memorial, RNAV RWY 35, Orig, CANCELLED

Cameron, MO, Cameron Memorial, RNAV (GPS) RWY 35, Orig

Fredericktown, MO, Fredericktown Regional, RNAV RWY 1, Orig, CANCELLED

Fredericktown, MO, Fredericktown Regional, RNAV (GPS) RWY 1, Orig

Fredericktown, MO, Fredericktown Regional, RNAV RWY 19, Orig, CANCELLED

Fredericktown, MO, Fredericktown Regional, RNAV (GPS) RWY 19, Orig

Marshall, MO, Marshall Meml Muni, RNAV RWY 18, Orig, CANCELLED

Marshall, MO, Marshall Meml Muni, RNAV (GPS) RWY 18, Orig

Marshall, MO, Marshall Meml Muni, RNAV RWY 36, Orig, CANCELLED

Marshall, MO, Marshall Meml Muni, RNAV (GPS) RWY 36, Orig

Picayune, MS, Picayune Muni, RNAV RWY 18, Orig, CANCELLED

Picayune, MS, Picayune Muni, RNAV (GPS) RWY 18, Orig

Picayune, MS, Picayune Muni, RNAV RWY 36, Orig, CANCELLED

Picayune, MS, Picayune Muni, RNAV (GPS) RWY 36, Orig

Poplar, MT, Poplar, RNAV RWY 9, Orig, CANCELLED

Poplar, MT, Poplar, RNAV (GPS) RWY 9, Orig

Poplar, MT, Poplar, RNAV RWY 27, Orig, CANCELLED

Poplar, MT, Poplar, RNAV (GPS) RWY 27, Orig

Edenton, NC, Northeastern Regional, RNAV RWY 1, Orig, CANCELLED

Edenton, NC, Northeastern Regional, RNAV (GPS) RWY 1, Orig

Edenton, NC, Northeastern Regional, RNAV RWY 5, Orig, CANCELLED

Edenton, NC, Northeastern Regional, RNAV RWY 5, Orig

Edenton, NC, Northeastern Regional, RNAV RWY 19, Orig, CANCELLED

Edenton, NC, Northeastern Regional, RNAV (GPS) RWY 19, Orig

Gastonia, NC, Gastonia Muni, RNAV RWY 3, Orig, CANCELLED

Gastonia, NC, Gastonia Muni, RNAV (GPS) RWY 3, Orig

Kinston, NC, Kinston Regional Jetport at Stallings Fld, RNAV RWY 5, Orig, CANCELLED

Kinston, NC, Kinston Regional Jetport at Stallings Fld, RNAV (GPS) RWY 5, Orig

Silver City, NC, Silver City Municipal, RNAV RWY 22, Orig, CANCELLED

Silver City, NC, Silver City Municipal, RNAV (GPS) RWY 22, Orig

Bismarck, ND, Bismarck Muni, RNAV RWY 3, Orig, CANCELLED

Bismarck, ND, Bismarck Muni, RNAV (GPS) RWY 3, Orig

Bismarck, ND, Bismarck Muni, RNAV RWY 21, Orig, CANCELLED

Bismarck, ND, Bismarck Muni, RNAV (GPS) RWY 21, Orig

Dickinson, ND, Dickinson Muni, RNAV RWY 14, Orig, CANCELLED

Dickinson, ND, Dickinson Muni, RNAV (GPS) RWY 14, Orig

Dickinson, ND, Dickinson Muni, RNAV RWY 32, Orig, CANCELLED

Dickinson, ND, Dickinson Muni, RNAV (GPS) RWY 32, Orig

Fargo, ND, Hector Intl, RNAV RWY 8, Orig, CANCELLED

Fargo, ND, Hector Intl, RNAV (GPS) RWY 8, Orig

Fargo, ND, Hector Intl, RNAV RWY 26, Orig, CANCELLED

Fargo, ND, Hector Intl, RNAV (GPS) RWY 26, Orig

Mohall, ND, Mohall Muni, RNAV RWY 31, Orig, CANCELLED

Mohall, ND, Mohall Muni, RNAV (GPS) RWY 31, Orig

Albion, NE, Albion Muni, RNAV RWY 15, Orig. CANCELLED

Albion, NE, Albion Muni, RNAV (GPS) RWY 15, Orig

Albion, NE, Albion Muni, RNAV RWY 33, Orig, CANCELLED

Albion, NE, Albion Muni, RNAV (GPS) RWY 33, Orig

Grand Island, NE, Central Nebraska Regional, RNAV RWY 13, Orig, CANCELLED

Grand Island, NE, Central Nebraska Regional, RNAV (GPS) RWY 13, Orig

Grand Island, NE, Central Nebraska Regional, RNAV RWY 17, Orig, CANCELLED

Grand Island, NE, Central Nebraska Regional, RNAV (GPS) RWY 17, Orig

Grand Island, NE, Central Nebraska Regional, RNAV RWY, Orig, CANCELLED

Grand Island, NE, Central Nebraska Regional, RNAV (GPS) RWY 31, Orig

Grand Island, NE, Central Nebraska Regional, RNAV RWY 35, Orig, CANCELLED

Grand Island, NE, Central Nebraska Regional, RNAV (GPS) RWY 35, Orig,

McCook, NE, McCook Muni, RNAV RWY 21, Orig. CANCELLED

McCook, NE, McCook Muni, RNAV (GPS) RWY 21, Orig

Norfolk, NE, Karl Stefan Memorial, RNAV RWY 1, Orig, CANCELLED

Norfolk, NE, Karl Stefan Memorial, RNAV (GPS) RWY 1, Orig,

Norfolk, NE, Karl Stefan Memorial, RNAV RWY 19, Orig, CANCELLED

Norfolk, NE, Karl Stefan Memorial, RNAV (GPS) RWY 19, Orig

Norfolk, NE, Karl Stefan Memorial, RNAV RWY 13, Orig, CANCELLED

Norfolk, NE, Karl Stefan Memorial, RNAV (GPS) RWY 13, Orig

Norfolk, NE, Karl Stefan Memorial, RNAV RWY 31, Orig, CANCELLED

Norfolk, NE, Karl Stefan Memorial, RNAV (GPS) RWY 31, Orig

O'Neill, NE, The O'Neill Muni-John L. Baker Field, RNAV RWY 13, Orig, CANCELLED

O'Neill, NE, The O'Neill Muni-John L. Baker Field, RNAV (GPS) RWY 13, Orig

O'Neill, NE, The O'Neill Muni-John L. Baker Field, RNAV (GPS) RWY 31, Orig, CANCELLED

O'Neill, NE, The O'Neill Muni-John L. Baker Field, RNAV (GPS) RWY 31, Orig

Valentine, NE, Miller Field, RNAV RWY 32, Orig, CANCELLED

Valentine, NE, Miller Field, RNAV (GPS) RWY 32, Orig

Wayne, NE, Wayne Muni, RNAV RWY 17, Orig, CANCELLED

Wayne, NE, Wayne Muni, RNAV (GPS) RWY 17, Orig

Wayne, NE, Wayne Muni, RNAV RWY 35, Orig, CANCELLED

Wayne, NE, Wayne Muni, RNAV (GPS) RWY 35, Orig

Atlantic City, NJ, Atlantic City Intl, RNAV RWY 13, Orig, CANCELLED

Atlantic City, NJ, Atlantic City Intl, RNAV (GPS) RWY 13, Orig

Atlantic City, NJ, Atlantic City Intl, RNAV RWY 22, Orig, CANCELLED

Atlantic City, NJ, Atlantic City Intl, RNAV (GPS) RWY 22, Orig

Newark, NJ, Newark Intl, RNAV RWY 22L, Orig, CANCELLED

Newark, NJ, Newark Intl, RNAV (GPS) RWY 22L, Orig

Montgomery, NY Orange County, RNAV RWY 3, Orig, CANCELLED

Montgomery, NY Orange County, RNAV (GPS) RWY 3, Orig

Montgomery, NY Orange County, RNAV RWY 8, Orig, CANCELLED

Montgomery, NY Orange County, RNAV (GPS) RWY 8, Orig

Montgomery, NY Orange County, RNAV RWY 21, Orig, CANCELLED

Montgomery, NY Orange County, RNAV (GPS) RWY 21, Orig

Montgomery, NY Orange County, RNAV RWY 26, Orig, CANCELLED

Montgomery, NY Orange County, RNAV (GPS) RWY 26, Orig

Monticello, NY, Sullivan County Intl, RNAV RWY 33, Orig, CANCELLED

Monticello, NY, Sullivan County Intl, RNAV (GPS) RWY 33, Orig

New York, NY, La Guardia, Copter RNAV 250, Orig, CANCELLED

New York, NY, La Guardia, Copter RNAV (GPS) 250, Orig

Niagara Falls, NY, Niagara Falls Intl, RNAV RWY 10L, Orig, CANCELLED

Niagara Falls, NY, Niagara Falls Intl, RNAV (GPS) RWY 10L, Orig

Sidney, NY, Sidney Muni, RNAV RWY 25, Orig, CANCELLED

Sidney, NY, Sidney Muni, RNAV (GPS) RWY 25, Orig

Lebanon, OH, Lebanon-Warren County, RNAV RWY 1, Orig, CANCELLED

Lebanon, OH, Lebanon-Warren County, RNAV (GPS) RWY 1, Orig

Lebanon, OH, Lebanon-Warren County, RNAV RWY 19, Orig, CANCELLED

Lebanon, OH, Lebanon-Warren County, RNAV RWY 19, Orig

Ardmore, OK, Ardmore Muni, RNAV RWY 31, Orig, CANCELLED

Ardmore, OK, Ardmore Muni, RNAV (GPS) RWY 31, Orig

Oklahoma City, OK, Sundance Airpark, RNAV RWY 17, Orig, CANCELLED

Oklahoma City, OK, Sundance Airpark, RNAV (GPS) RWY 17, Orig

Oklahoma City, OK, Sundance Airpark, RNAV RWY 35, Orig, CANCELLED

Oklahoma City, OK, Sundance Airpark, RNAV (GPS) RWY 35, Orig

Tillamook, OR, Tillamook, RNAV RWY 13, Orig, CANCELLED

Tillamook, OR, Tillamook, RNAV (GPS) RWY 13, Orig

Pittsburgh, PA, Allegheny County, RNAV RWY 5, Orig, CANCELLED

Pittsburgh, PA, Allegheny County, RNAV RWY 5, Orig

Pittsburgh, PA, Allegheny County, RNAV RWY 10, Orig, CANCELLED

Pittsburgh, PA, Allegheny County, RNAV RWY 10, Orig

Pittsburgh, PA, Allegheny County, RNAV RWY 28, Orig, CANCELLED

Pittsburgh, PA, Allegheny County, RNAV RWY 28, Orig

Pittsburgh, PA, Pittsburgh Intl, RNAV RWY 10R, Orig, CANCELLED

Pittsburgh, PA, Pittsburgh Intl, RNAV (GPS) RWY 10R, Orig

Pittsburgh, PA, Pittsburgh Intl, RNAV RWY 10L, Orig, CANCELLED

Pittsburgh, PA, Pittsburgh Intl, RNAV (GPS) RWY 10L, Orig

Pittsburgh, PA, Pittsburgh Intl, RNAV RWY 10C, Orig, CANCELLED

Pittsburgh, PA, Pittsburgh Intl, RNAV (GPS) RWY 10C, Orig

Pittsburgh, PA, Pittsburgh Intl, RNAV RWY 14, Orig, CANCELLED

Pittsburgh, PA, Pittsburgh Intl, RNAV (GPS) RWY 14, Orig

Pittsburgh, PA, Pittsburgh Intl, RNAV RWY 28R, Orig, CANCELLED

Pittsburgh, PA, Pittsburgh Intl, RNAV (GPS) RWY 28R, Orig

Pittsburgh, PA, Pittsburgh Intl, RNAV RWY 28L, Orig, CANCELLED

Pittsburgh, PA, Pittsburgh Intl, RNAV (GPS) RWY 28L, Orig

Pittsburgh, PA, Pittsburgh Intl, RNAV RWY 28C, Orig, CANCELLED

Pittsburgh, PA, Pittsburgh Intl, RNAV (GPS) RWY 28C, Orig

Pittsburgh, PA, Pittsburgh Intl, RNAV RWY 32, Orig, CANCELLED

Pittsburgh, PA, Pittsburgh Intl, RNAV (GPS) RWY 32, Orig

Pottsville, PA, Schuylkill County/Joe Zerbey, RNAV RWY 11, Orig, CANCELLED

Pottsville, PA, Schuylkill County/Joe Zerbey, RNAV (GPS) RWY 11, Orig

Pottsville, PA, Schuylkill County/Joe Zerbey, RNAV RWY 29, Orig, CANCELLED

Pottsville, PA, Schuylkill County/Joe Zerbey, RNAV (GPS) RWY 29, Orig, CANCELLED

Pottsville, PA, Schuylkill County/Joe Zerbey, RNAV (GPS) RWY 29, Orig

San Juan, PR Luis Munoz Marin Intl, RNAV RWY 8, Orig, CANCELLED

San Juan, PR Luis Munoz Marin Intl, RNAV (GPS) RWY 8, Orig

San Juan, PR Luis Munoz Marin Intl, RNAV RWY 10, Orig, CANCELLED

San Juan, PR Luis Munoz Marin Intl, RNAV RWY 10, Orig

Anderson, SC, Anderson Regional, RNAV RWY 5, Orig, CANCELLED

Anderson, SC, Anderson Regional, RNAV (GPS) RWY 5, Orig

Myrtle Beach, SC, Myrtle Beach Intl, RNAV RWY 35, Orig, CANCELLED

Myrtle Beach, SC, Myrtle Beach Intl, RNAV (GPS) RWY 35, Orig

Myrtle Beach, SC, Myrtle Beach Intl, RNAV RWY 17, Orig, CANCELLED

Myrtle Beach, SC, Myrtle Beach Intl, RNAV (GPS) RWY 17, Orig

Rapid City, SD, Rapid City Regional, RNAV RWY 32, Orig, CANCELLED

Rapid City, SD, Rapid City Regional, RNAV (GPSA) RWY 32, Orig

Murfreesboro, TN, Murfreesboro Muni, RNAV RWY 18, Orig, CANCELLED

Murfreesboro, TN, Murfreesboro Muni, RNAV (GPS) RWY 18, Orig

Murfreesboro, TN, Murfreesboro Muni, RNAV RWY 36, Orig, CANCELLED

Murfreesboro, TN, Murfreesboro Muni, RNAV (GPS) RWY 36, Orig

Smithville, TN, Smithville Muni, RNAV RWY 24, Orig, CANCELLED

Smithville, TN, Smithville Muni, RNAV (GPS) RWY 24, Orig

Somerville, TN, Fayette County, RNAV RWY 19, Orig, CANCELLED

Somerville, TN, Fayette County, RNAV (GPS) RWY 19, Orig

Anahuac, TX, Chambers County, RNAV RWY 12, Orig, CANCELLED

Anahuac, TX, Chambers County, RNAV (GPS) RWY 12, Orig

Baytown, TX, RWJ Airpark, RNAV RWY 26, Orig. CANCELLED

Baytown, TX, RWJ Airpark, RNAV (GPS) RWY 26, Orig

Bonham, TX, Jones Field, RNAV RWY 17, Orig, CANCELLED

Bonham, TX, Jones Field, RNAV (GPS) RWY 17, Orig

Brownwood, TX, Brownwood Regional, RNAV RWY 17, Orig, CANCELLED

Brownwood, TX, Brownwood Regional, RNAV (GPS) RWY 17, Orig

Brownwood, TX, Brownwood Regional, RNAV RWY 35, Orig, CANCELLED

Brownwood, TX, Brownwood Regional, RNAV (GPS) RWY 35, Orig

Corsicana, TX, C. David Campbell Field-Corsicana Muni, RNAV RWY 14, Orig, CANCELLED

Corsicana, TX, C. David Campbell Field-Corsicana Muni, RNAV (GPS) RWY 14, Orig

Corsicana, TX, C. David Campbell Field-Corsicana Muni, RNAV RWY 32, Orig, CANCELLED

Corsicana, TX, C. David Campbell Field-Corsicana Muni, RNAV (GPS) RWY 32, Orig

Eastland, TX, Eastland Muni, RNAV RWY 35, Orig, CANCELLED

Eastland, TX, Eastland Muni, RNAV (GPS) RWY 35, Orig

Fort Stockton, TX, Fort Stockton-Pecos County, RNAV RWY 12, Orig, CANCELLED

Fort Stockton, TX, Fort Stockton-Pecos County, RNAV (GPS) RWY 12, Orig

Fort Stockton, TX, Fort Stockton-Pecos County, RNAV RWY 30, Orig, CANCELLED

Fort Stockton, TX, Fort Stockton-Pecos County, RNAV (GPS) RWY 30, Orig

Fort Worth, TX, Fort Worth Alliance, RNAV RWY 16L, Orig, CANCELLED

Fort Worth, TX, Fort Worth Alliance, RNAV (GPS) RWY 16L, Orig

Fort Worth, TX, Fort Worth Alliance, RNAV RWY 34R, Orig, CANCELLED

Fort Worth, TX, Fort Worth Alliance, RNAV (GPS) RWY 34R, Orig

La Grange, TX, Fayette Regional Air Center, RNAV RWY 16, Orig, CANCELLED

La Grange, TX, Fayette Regional Air Center, RNAV (GPS) RWY 16, Orig

La Grange, TX, Fayette Regional Air Center, RNAV RWY 34, Orig, CANCELLED

La Grange, TX, Fayette Regional Air Center, RNAV (GPS) RWY 34, Orig

Liberty, TX, Liberty Muni, RNAV RWY 16, Orig, CANCELLED

Liberty, TX, Liberty Muni, RNAV (GPS) RWY 16, Orig

Livingston, TX, Livingston Muni, RNAV RWY 30, Orig, CANCELLED

Livingston, TX, Livingston Muni, RNAV (GPS) RWY 30, Orig

Lufkin, TX, Angelina County, RNAV RWY 25, Orig, CANCELLED

Lufkin, TX, Angelina County, RNAV (GPS) RWY 25, Orig

Lufkin, TX, Angelina County, RNAV RWY 33, Orig, CANCELLED

Lufkin, TX, Angelina County, RNAV (GPS) RWY 33, Orig

Nacogdoches, TX, A L Mangham Jr Regional, RNAV RWY 15, Orig, CANCELLED

Nacogdoches, TX, A L Mangham Jr Regional, RNAV (GPS) RWY 15, Orig

Nacogdoches, TX, A L Mangham Jr Regional, RNAV RWY 18, Orig, CANCELLED

Nacogdoches, TX, A L Mangham Jr Regional, RNAV (GPS) RWY 18, Orig

Palestine, TX, Palestine Muni, RNAV RWY 35, Orig, CANCELLED

Palestine, TX, Palestine Muni, RNAV (GPS) RWY 35, Orig

Port Lavaca, TX, Calhoun County, RNAV RWY 14, Orig, CANCELLED

Port Lavaca, TX, Calhoun County, RNAV (GPS) RWY 14, Orig

Rockport, TX, Aransas Co, RNAV RWY 14, Orig, CANCELLED

Rockport, TX, Aransas Co, RNAV (GPS) RWY 14, Orig

Seminole, TX, Gaines County, RNAV (GPS) RWY 35, Orig, CANCELLED

Seminole, TX, Gaines County, RNAV (GPS) RWY 35, Orig

Uvalde, TX, Garner Field, RNAV RWY 33, Orig, CANCELLED

Uvalde, TX, Garner Field, RNAV (GPS) RWY 33, Orig

Wendover, UT, Wendover, RNAV RWY-A, Orig, CANCELLED

Wendover, UT, Wendover, RNAV (GPS)-A, Orig

Wendover, UT, Wendover, RNAV RWY 26, Orig, CANCELLED

Wendover, UT, Wendover, RNAV (GPS) RWY 26, Orig

Charlottesviklle, VA, Charlottesville-Albermarle, RNAV RWY 3, Orig, CANCELLED

Charlottesviklle, VA, Charlottesville-Albermarle, RNAV (GPS) RWY 3, Orig

Norfolk, VA, Norfolk Intl, RNAV RWY 23, Orig, CANCELLED

Norfolk, VA, Norfolk Intl, RNAV (GPS) RWY 23, Orig

Charlotte Amalie, VI, Cyril E King, RNAV RWY 10, Orig, CANCELLED

Charlotte Amalie, VI, Cyril E King, RNAV (GPS) RWY 10, Orig

Christiansted, VI, Henry E. Rohlsen, RNAV RWY 9, Orig, CANCELLED

Christiansted, VI, Henry E. Rohlsen, RNAV (GPS) RWY 9, Orig

Black River Falls, WI, Black River Falls Area, RNAV RWY 8, Orig, CANCELLED

Black River Falls, WI, Black River Falls Area, RNAV (GPS) RWY 8, Orig

Green Bay, WI, Austin Straubel Intl, RNAV RWY 6, Orig, CANCELLED

Green Bay, WI, Austin Straubel Intl, RNAV (GPS) RWY 6, Orig

Green Bay, WI, Austin Straubel Intl, RNAV RWY 36, Orig, CANCELLED

Green Bay, WI, Austin Straubel Intl, RNAV (GPS) RWY 36, Orig

Morgantown, WV, Morgantpwn Muni-WAalter L. Bill Hart Field, RNAV RWY 18, Orig, CANCELLED

Morgantown, WV, Morgantpwn Muni-WAalter L. Bill Hart Field, RNAV (GPS) RWY 18, Orig

[FR Doc. 00-29321 Filed 11-15-00; 8:45 am]

BILLING CODE 4910-13-M